DEPARTMENT OF HEALTH AND HUMAN SERVICES

Administration for Children and Families

[CFDA Numbers: 93.581, 93.587, 93.612]

Notice for Public Comment on Administration for Native Americans' Program Policies and Procedures

AGENCY: Administration for Native Americans, Administration for Children and Families, Department of Health and Human Services.

ACTION: Request for public comment.

SUMMARY: Pursuant to Section 814 of the Native American Programs Act of 1974 (NAPA), as amended, the Administration for Native Americans (ANA) is required to provide members of the public an opportunity to comment on proposed changes in interpretive rules and general statements of policy and to give notice of the proposed changes no less than 30 days before such changes become effective.

DATES: Comments are due by January 3, 2022. If ANA does not receive any significant comments within the 30-day comment period, ANA will proceed with the proposed changes in the respective published NOFOs. The NOFOs will serve as the final notice of these proposed changes.

ADDRESSES: Comments may be submitted to: Carmelia Strickland, Director of Program Operations, Administration for Native Americans, 330 C Street SW, Washington, DC 20201 or via email to: ANAComments@acf.hhs.gov.

FOR FURTHER INFORMATION CONTACT: Carmelia Strickland, Director, Division of Program Operations, Administration for Native Americans, 330 C Street SW, Washington, DC 20201; Telephone: (877) 922-9262; Email: ANAComments@acf.hhs.gov.

SUPPLEMENTARY INFORMATION: In accordance with notice requirements of NAPA, ANA herein describes proposed interpretive rules and general statements of policy that relate to ANA's funding opportunities in Fiscal Year (FY) 2022. Changes to FY 2022 Notice of Funding Opportunity (NOFOs) will be based on the following previously published programs: Environmental Regulatory Enhancement (ERE), HHS-2021-ACF-ANA-NR-1907; Native American Language Preservation and Maintenance—Esther Martinez Immersion (EMI), HHS-2021-ACF-ANA-NB-1958; Native American Language Preservation and Maintenance (P&M), HHS-2021-ACF-ANA-NL-1924; Social and Economic Development Strategies (SEDS), HHS-2021—ACF-ANA-NA-1906; Social and Economic Development Strategies—Alaska (SEDS-AK); and HHS-2021—ACF-ANA-NK-1902.

Section 814 of NAPA, as amended, (42 U.S.C. 2992b-1) incorporates provisions of the Administrative Procedure Act that require ANA to provide notice of its proposed interpretive rules and statements of policy and to seek public comment on such proposals. This notice serves to fulfill the statutory notice and public comment requirement. ANA voluntarily includes rules of practice and procedures in this notice in an effort to be transparent. The proposed interpretive rules, statements of policy, and rules of ANA practice and procedure reflected in clarifications, modifications, and new text will appear in the five FY 2022 NOFOs: ERE, EMI, P&M, SEDS, and SEDS-AK.

A. Interpretive rules, statements of policy, procedures, and practice. The proposals below reflect ANA's proposed changes in rules, policy, or procedure that will take effect in the FY 2022 NOFOs.

1. Discontinuation of SEDS-GO

ANA has several new legislative economic development priorities under the Indian Community Economic Enhancement Act of 2020 (Public Law 116-261 Section 5), and Congress would like ANA to prioritize at least 50 percent of our available SEDS funding to go towards those types of projects. Therefore, ANA will discontinue SEDS-GO, and applicants can propose governance or organizational capacity building projects under regular SEDS.

2. Raising the Funding Level of SEDS-AK NOFO

Operating costs for grant-funded projects in Alaska are often higher than in the lower 48 states. In addition, ANA has seen a decline in the number of applications received over the last few years for the SEDS-AK funding competition. Therefore, in an effort create more interest in the program and to address the higher expenses, ANA will increase the funding level for SEDS-AK from $200,000 to $300,000.

3. Clarification to EMI NOFO

In accordance with 42 U.S.C. 2991b-3(c)(7), applicants for an EMI grant must submit an official document that certifies the applicant has at least 3 years of experience in operating and administering a Native American language survival school, a Native American language nest, or any other educational program in which instruction is conducted in a Native American language. ANA has decided not to fund applicants that did not provide the certification as required by law. To reiterate and also clarify, the applicant must provide the required certification of having not less than 3 years of experience in operating and administering a Native American language survival school, a Native American language nest, or any other educational program in which instruction is conducted in a Native American language. The applicant may partner with other eligible entities (as defined under Section III.1 Eligible Applicants in the NOFO) that do not have to meet the certification requirement.

Statutory Authority: Section 814 of the Native American Programs Act of 1974 (NAPA), as amended.

Hope MacDonald LoneTree,
Deputy Commissioner, Administration for Native Americans.

[FR Doc. 2021-26271 Filed 12-2-21; 8:45 am]

BILLING CODE 4184-34-P